DEPARTMENT OF ENERGY

Western Area Power Administration

Construction and Operation of the Proposed Big Stone II Power Plant and Transmission Project, South Dakota and Minnesota

AGENCY: Western Area Power Administration, DOE.

ACTION: Notice of intent.

SUMMARY: The Western Area Power Administration (Western), U.S. Department of Energy (DOE) intends to prepare an Environmental Impact Statement (EIS) for the construction and operation of the proposed Big Stone II Power Plant and Transmission Project (Project) in South Dakota and Minnesota. The Rural Utilities Service, U.S. Department of Agriculture (RUS), will participate as a cooperating agency. Missouri River Energy Services (MRES, Applicant), on behalf of the Big Stone II Project co-owners, has applied to interconnect the proposed Project to Western's power transmission system. The EIS will address the construction and operation of the proposed Project, which includes a nominal 600 megawatt (MW) (net) coal-fired power plant and ancillary equipment and facilities in eastern South Dakota, upgrades of existing transmission lines and facilities, and up to 129 miles of new transmission lines in South Dakota and Minnesota. Western will hold a 60-day scoping period and scoping meetings near the Project area to receive input on the scope of the EIS.

DATES: Open-house public scoping meetings will be held June 14-16, 2005, between 5 and 8 p.m. Written comments on the scope of the EIS must be received by 11:59 p.m., July 26, 2005 which marks the end of the EIS scoping period.

ADDRESSES: The open-house public scoping meetings will be held in South Dakota and Minnesota. The June 14, 2005, meeting will be held at the Lantern Inn, 1010 S. Dakota Street in Milbank, South Dakota. On June 15, 2005, the meeting will be held at the Best Western Prairie Inn, 200 E. Highway 28 in Morris, Minnesota. The June 16, 2005, meeting will be held at the Kilowatt Community Center, 600 Kilowatt Drive in Granite Falls, Minnesota. Written comments regarding the scoping process should be addressed to NEPA Document Manager, Big Stone II EIS, A7400, Western Area Power Administration, P.O. Box 281213, Lakewood, CO 80228-8213, telephone (800) 336-7288, fax (720) 962-7263 or 7269, e-mail BigStoneEIS@wapa.gov.

FOR FURTHER INFORMATION CONTACT: NEPA Document Manager, Big Stone II EIS, A7400, Western Area Power Administration, P.O. Box 281213, Lakewood, CO 80228-8213, telephone (800) 336-7288, fax (720) 962-7263 or 7269, e-mail BigStoneEIS@wapa.gov. For general information on DOE's National Environmental Policy Act (NEPA) review procedures or status of a NEPA review, contact Ms. Carol M. Borgstrom, Director of NEPA Policy and Compliance, EH-42, U.S. Department of Energy, 1000 Independence Avenue SW., Washington, DC 20585, telephone (202) 586-4600 or (800) 472-2756.

SUPPLEMENTARY INFORMATION: Western intends to prepare an EIS on the proposal by the Project co-owners to construct and operate the Project in eastern South Dakota and western Minnesota. The Project co-owners include:

• Otter Tail Corporation dba Otter Tail Power Company, lead developer, Fergus Falls, Minnesota

• Missouri River Energy Services, applicant, Sioux Falls, South Dakota

• Central Minnesota Municipal Power Agency, Blue Earth, Minnesota

• Great River Energy, Elk River, Minnesota

• Heartland Consumers Power District, Madison, South Dakota

• Montana-Dakota Utilities Co., a Division of MDU Resources Group, Inc., Bismarck, North Dakota

• Southern Minnesota Municipal Power Agency, Rochester, Minnesota

The EIS will address the construction and operation of the proposed Project, which includes a nominal 600 MW (net) coal-fired power plant and ancillary equipment and facilities in eastern South Dakota, upgrades of existing transmission lines and facilities, and up to 129 miles of new transmission lines in South Dakota and Minnesota. In addition to the proposed action, the no-action alternative, and any action alternatives defined as a result of the EIS scoping process will also be addressed in the EIS. The EIS process will comply with NEPA (42 U.S.C. 4321-4347, as amended), Council on Environmental Quality regulations for implementing NEPA (40 CFR parts 1500-1508), and DOE NEPA implementing procedures (10 CFR part 1021).

MRES has applied to interconnect the proposed Project to Western's power transmission system. Western is a power marketing agency of DOE that markets Federal electric power to municipalities, public utilities, and Native American tribes. Western offers capacity on its transmission system to deliver electricity when such capacity is available, under Western's Open Access Transmission Service Tariff (63 FR 5376). The Tariff has been approved by the Federal Energy Regulatory Commission (Commission) as meeting or exceeding the requirements of the Commission's Final Order Nos. 888, 888A, 888B and 888C, which are intended to ensure non-discriminatory transmission system access. Pursuant to the Commission's Order Nos. 2003, 2003-A and 2003-B, Western submitted revisions to its non-jurisdictional Tariff on January 25, 2005, to the Commission. The purpose of the filing was to revise certain terms of Western's original Tariff and to incorporate the Large Generator Interconnection Procedures, and a Large Generator Interconnection Agreement. Western needs to grant or deny MRES's interconnection request under the provisions of its revised Tariff.

Seven co-owners are proposing to construct a second electric generating unit, named Big Stone II, on an industrial site adjacent to the existing Big Stone Plant (unit 1) located in Grant County east of Milbank and northwest of Big Stone City, South Dakota. On-site construction is proposed to begin in the spring of 2007, with proposed commercial operation in 2011. The Project would serve the co-owners' customer base loads.

The existing Big Stone Plant is located on an approximately 2,200-acre site. Otter Tail Power Company owns a 295-acre parcel adjacent to the existing site and has under option to purchase, on behalf of the Project, an additional 625 acres. Based on preliminary project engineering, the Project co-owners have legal access to all plant site property that is necessary to complete Big Stone II construction. A portion of the existing Big Stone Plant site is leased to the Northern Lights Ethanol Plant and provides steam and process water to that facility.

Constructing Big Stone II at the site of an existing facility would considerably reduce the construction costs of a new plant. The proposed plant would share existing infrastructure, including cooling water intake structure, pumping system, and delivery line; plant road and rail spur; coal unloading facilities; and solid waste disposal facilities. The existing plant road and rail spur would provide site access. No changes are expected to these existing features to accommodate the Project.

The Project co-owners would construct a nominal 600 MW (net) electric generating station using a single pulverized coal fired steam generator (boiler) with balanced-draft combustion and a single reheat steam turbine. The plant would be designed to burn approximately 2.5 to 3 million tons of Powder River Basin sub-bituminous coal annually. This fuel is relatively high-moisture, low-sulfur coal with excellent combustion but low grindability qualities. Big Stone II would be designed to normally operate at its maximum continuous rating output. The Project would serve the co-owners' customer base loads.

Subject to a final design and regulatory approval, emissions control equipment would likely include selective catalytic reduction for nitrogen oxide reduction, a fabric filter (baghouse) for particulate collection, followed by a wet scrubber for sulfur dioxide removal. The proposed emission control technologies are configured to provide the greatest mercury emission reductions.

Treated cooling water for the water-cooled surface condenser at the proposed plant would be provided from a closed-loop circulating water system that includes a new mechanical draft cooling tower and circulating water pumps. Raw water for the cooling system would be supplied from the existing Big Stone Plant cooling pond. The water for the cooling pond would be supplied from Big Stone Lake via an existing water line and intake structure. Potable water for drinking fountains, washrooms, showers, and toilet facilities would be supplied from the area's rural water system.

The design of the wastewater treatment system for Big Stone II would maintain the “zero discharge” design of the existing Big Stone Plant. Design features would include containment areas around equipment, oil/water separator, brine concentrator, and on-site storm water collection system. In addition, oil collected from the oil/water separator and other plant-generated waste oils would be burned in one of the two coal-fired boilers for energy recovery. Sanitary waste from showers, wash basins, and toilets would be collected for treatment in the existing Big Stone Plant treatment system.

The Project co-owners intend to market ash as a commodity suitable for use in a number of applications including replacement of Portland cement in concrete, soil stabilization, and structural fill. Excess ash, and ash not meeting marketable specifications, would be disposed of in the existing Big Stone Plant on-site ash landfill. The existing Big Stone Plant and the proposed Big Stone II would produce approximately 300,000 to 350,000 cubic yards of ash annually, based on expected average coal characteristics. Operating both units until 2040 could require development of approximately 95 acres of new landfill.

Electric output from the proposed Big Stone II would be stepped up to 230 kilovolts (kV) and interconnected to the transmission system at the existing Big Stone Plant site. The existing plant site currently has four transmission outlets. Two of these outlets are operated at 230 kV, one terminates north of the existing plant site near Hankinson, North Dakota, and the other terminates south of the existing plant site near Blair, South Dakota. The other two transmission outlets are operated at 115 kV; one terminates north of Big Stone City on the Graceville-Morris 115-kV line, and the other terminates at Western's Granite Falls Substation in Minnesota.

The Midwest Independent System Operator (MISO) conducted an Interconnection Study for the Project (MISO project number G392, queue number 38020-01) that outlines required upgrades for interconnecting the proposed Big Stone II to the current interstate transmission system. The study proposed two different interconnection alternatives to meet the steady-state system requirements:

A. Alternative A would include approximately 56 miles of new transmission line and approximately 80 miles of line upgrades: A new 230-kV line from the existing Big Stone Plant site to Ortonville, Minnesota (about seven miles) with an upgrade of the Ortonville to Johnson Junction to Morris, Minnesota line (about 41 miles) from 115 kV to 230 kV, and a new 230-kV line from the existing Big Stone Plant site to Canby, Minnesota (about 49 miles) with an upgrade of the Canby to Granite Falls, Minnesota line (about 39 miles) from 115 kV to 230 kV. The lines would interconnect at Western's Morris and Granite Falls substations, and modifications to these substations would be required.

B. Alternative B would include approximately 129 miles of new transmission line and approximately 39 miles of line upgrades: a new 230-kV line from the existing Big Stone Plant site to just east of Spicer, Minnesota (about 80 miles), and a new 230-kV line from the existing Big Stone Plant site to Canby (about 49 miles) with an upgrade of the Canby to Granite Falls, Minnesota line from 115 kV to 230 kV (about 39 miles). Western is the owner of the Granite Falls Substation where the latter line would interconnect. Modifications to the Granite Falls Substation and a new substation at Spicer would be required.

Under the current MISO tariff and Western interconnection requirements, further analysis is required before firm transmission service can be granted for the Project. This analysis will be performed through a System Impact (or “Delivery Service”) Study. The results of this study and other regional planning may also identify additional transmission system improvements or other design criteria needed to accommodate the reliable delivery of the electric output from the Project to the co-owners' systems. These additional improvements would be analyzed for environmental impacts. Any necessary transmission line construction would be owned and maintained by one or more of the Project co-owners.

The states of Minnesota and South Dakota require the project co-owners to meet certain requirements for siting private transmission lines within their states. In Minnesota, a Certificate of Need from the Public Utilities Commission and a Route Permit for a Large High-Voltage Transmission Line from the Environmental Quality Board for the portion of the transmission lines located in Minnesota would be required. In South Dakota, a Transmission Facility Route Permit for the portion of the transmission lines in South Dakota would be required.

Interconnection of the proposed Big Stone II Project would incorporate a major new generation resource into Western's power transmission system, including upgrades to existing substations and construction of new transmission lines. Therefore, Western has determined that an EIS is required under DOE NEPA Implementing Procedures, 10 CFR part 1021, Subpart D, Appendix D, class of action D6. Western will be the lead Federal agency for preparing the EIS, as defined at 40 CFR 1501.5. In addition, Great River Energy anticipates applying for a loan from the RUS to finance its portion of the proposed Project, so RUS has been designated a cooperating agency. Western will invite other Federal, state, local, and tribal agencies with jurisdiction by law or special expertise with respect to environmental issues to be cooperating agencies on the EIS, as defined at 40 CFR 1501.6. Such agencies may also make a request to Western to be a cooperating agency. Designated cooperating agencies have certain responsibilities to support the NEPA process, as specified at 40 CFR 1501.6 (b).

Full public participation and disclosure are planned for the entire EIS process. Western anticipates the EIS process will take about 15 months, and will include the open-house public scoping meetings; consultation and involvement with appropriate Federal, state, local, and tribal governmental agencies; public review and hearings on the published draft EIS; a review period; a published final EIS; and publication of a record of decision expected in mid-summer 2006. Additional informal public meetings may be held in the proposed Project area if public interest and issues indicate a need. Western will also mail newsletters to the proposed Project mailing list to communicate Project status and developments.

Western will hold a 60-day scoping period to ensure that interested members of the public and representatives of groups, and Federal, state, local, and tribal agencies have an opportunity to provide input on the scope of the process and the alternatives that will be addressed in the EIS. Western will also hold public open-house scoping meetings near the Project area during the scoping period. The purpose of the scoping meetings will be to provide information about the proposed Project, answer questions, and take written comments from interested parties.

The open-house public scoping meetings will be held on June 14, 2005, at the Lantern Inn, 1010 S. Dakota Street, Milbank, South Dakota; on June 15, 2005, at the Best Western Prairie Inn, 200 E. Highway 28, Morris, Minnesota; and on June 16, 2005, at the Kilowatt Community Center, 600 Kilowatt Drive, Granite Falls, Minnesota. Members of the public and representatives of groups, Federal, state, local and tribal agencies are invited to attend anytime between 5 and 8 p.m. Attendees at the scoping meetings will have the opportunity to view proposed Project and NEPA process displays and other information. The open-house scoping meetings will be informal, with Western and Project representatives available for one-on-one discussions with attendees. Written comments regarding the scoping process may be left with one of Western's representatives at the scoping meetings, or may be provided by fax, e-mail or U.S. Postal Service mail to Western as noted above.

R. Jack Dodd,
Assistant Administrator for Washington Liaison.

[FR Doc. 05-10662 Filed 5-26-05; 8:45 am]

BILLING CODE 6450-01-P